ENVIRONMENTAL PROTECTION AGENCY

40 CFR Part 52

[LA-56-1-7491a; FRL-7485-6]

Approval and Promulgation of Implementation Plans; Louisiana: Revision to the Ozone Maintenance Plans for Beauregard, St. Mary, Lafayette, and Grant Parishes and the New Orleans Consolidated Metropolitan Statistical Area

AGENCY: Environmental Protection Agency (EPA).

ACTION: Direct final rule.

SUMMARY: The EPA is taking direct final action to approve a revision to the Louisiana SIP for Beauregard, St. Mary, Lafayette, and Grant Parishes and the New Orleans Consolidated Metropolitan Statistical Area (CMSA) ozone maintenance areas, submitted by the State of Louisiana on December 4, 2000. The revision involves changes to the approved contingency plans. This rulemaking action is being taken under sections 110, 301 and part D of the Clean Air Act (CAA).

DATES: This rule is effective on June 20, 2003 without further notice, unless we receive adverse comment by May 21, 2003. If we receive such comment, we will publish a timely withdrawal in the Federal Register informing the public that this rule will not take effect.

ADDRESSES: Written comments should be addressed to Mr. Thomas H. Diggs, Chief, Air Planning Section (6PD-L), at the EPA Region 6 Office listed below. Copies of documents relevant to this action are available for public inspection during normal business hours at the following locations. Anyone wanting to examine these documents should make an appointment with the appropriate office at least two working days in advance.

Environmental Protection Agency, Region 6, Air Planning Section (6PD-L), 1445 Ross Avenue, Dallas, Texas 75202-2733.

Louisiana Department of Environmental Quality, Air Quality Division, 7290 Bluebonnet Boulevard, Baton Rouge, Louisiana 70810.

FOR FURTHER INFORMATION CONTACT: Joe Kordzi, at (214) 665-7186.

SUPPLEMENTARY INFORMATION: Throughout this document “we,” “us,” and “our” refers to EPA.

Table of Contents

I. What is the background on this action?

II. What features are in the current contingency plans for these areas?

III. What are the State's changes to these contingency plans?

IV. What is the rulemaking action?

V. Why is this a “Final Action?”

VI. What regulatory assessment requirements apply for this action?

I. What Is the Background on This Action?

The CAA, as amended in 1977, required areas that were designated nonattainment based on a failure to meet the ozone National Ambient Air Quality Standard (NAAQS) to develop SIPs with sufficient control measures to expeditiously attain and maintain the standard. Beauregard, St. Mary, Lafayette, and Grant Parishes and the New Orleans CMSA were designated under section 107 of the 1977 CAA as nonattainment with respect to the ozone NAAQS on September 11, 1978 (40 CFR 81.319). As required by part D and section 110 of the 1977 CAA, the State of Louisiana submitted an ozone SIP. The EPA fully approved this ozone SIP on October 29, 1981 (46 FR 53412).

On November 15, 1990, the CAA Amendments of 1990 were enacted (Pub. L. 101-549, 104 Stat. 2399, codified at 42 U.S.C. 7401-7671q). The ozone nonattainment designation for these areas continued by operation of law according to section 107(d)(1)(C)(i) of the CAA, as amended in 1990 (56 FR 56694, November 6, 1991). For Beauregard, St. Mary, Lafayette, and Grant Parishes, the State had not yet collected the required three years of ambient air quality data necessary to petition for redesignation to attainment, so these Parishes were classified as unclassifiable-incomplete data for ozone. For the New Orleans CMSA, the State collected the required three years of ambient air quality data necessary to petition for redesignation to attainment, and these data demonstrated that the ozone standard had not been violated, so the New Orleans CMSA was designated as transitional for ozone. The Louisiana Department of Environmental Quality (LDEQ) then collected more than 3 years of ambient monitoring data that showed no violations of the one-hour ozone NAAQS of 0.12 parts per million. A violation of the ozone standard occurs if data show four or more exceedances during a consecutive 3-year period.

On April 23, 1993, Louisiana requested the redesignation to NAAQS ozone attainment for the New Orleans CMSA. On May 25, 1993, the State requested redesignation for Grant and Lafayette Parishes; and on June 14, 1993, for Beauregard and St. Mary Parishes. These requests were accompanied by an ozone maintenance SIP. Certain approvability issues were raised, and the State submitted revised redesignation requests and maintenance plans. All areas were redesignated to attainment on October 17, 1995, except for the New Orleans CMSA which was redesignated on December 1, 1995.¹

¹ For detailed information concerning the ozone redesignation and SIP approval process and the applicable Federal guidance, please see 60 FR 472280 September 12, 1995. This action concerned the approval of the maintenance plan for St. James Parish and its redesignation to attainment for ozone.

The technical evaluation that follows includes a review of the revised contingency plan. We have also reviewed LDEQ's approach to ensure that this action is consistent with actions taken elsewhere in the nation.

II. What Features Are in the Current Contingency Plans for These Areas?

The approved contingency plans for Beauregard, St. Mary, Lafayette, and Grant Parishes and the New Orleans CMSA, include measures to be adopted and implemented if future air quality conditions warrant such action. The State intended to review any future ozone exceedance to determine whether the episode was due to local emissions. If the ozone exceedance was a result of local conditions, then the contingency measure corresponding to that particular exceedance would be triggered, and the State would begin the rulemaking process to adopt the triggered measure into the State's regulations. Through this action, the LDEQ now revises its contingency plans for Beauregard, St. Mary, Lafayette, and Grant Parishes and the New Orleans CMSA to make them consistent with contingency plans elsewhere in the State and the Nation.

III. What Are the State's Changes to These Contingency Plans?

The revision to the ozone SIP for Beauregard, St. Mary, Lafayette, and Grant Parishes and the New Orleans CMSA consists of a change to the contingency plan triggering event. Currently, a second or third exceedance of the one-hour ozone standard results in a triggering event. This revision to the SIP would change the triggering event to be an actual violation of the one-hour ozone standard, which occurs upon the fourth exceedance in any consecutive three-year period. Also, this revision to the SIP clarifies the narrative portion of the contingency plan, which discusses the State's procedures for evaluation of whether a triggering event has occurred.

Section 175A of the CAA requires that an ozone maintenance plan include contingency provisions as necessary, to promptly correct any violation of the one-hour ozone standard that occurs after redesignation of the area to attainment. The existing contingency plans for Beauregard, St. Mary, Lafayette, and Grant Parishes and the New Orleans Consolidated Metropolitan Statistical Area (CMSA) include measures to be adopted prior to a recorded violation of the one-hour ozone standard. This approach identified VOC offsets and applicable Reasonably Available Control Technology (RACT) regulations to be adopted, based on two and three recorded ozone exceedances, respectively.

The existing contingency plan requires a review of the exceedance to determine whether the cause is due to local emissions. If the source of the exceedance is local, then appropriate measures are identified for implementation.

The LDEQ has revised its existing contingency plan to base the triggering event on a localized violation of the one-hour ozone standard (four exceedances in a consecutive three-year period). Additionally, the revised contingency plan identifies a menu of one or more contingency measures to be adopted if a future violation is recorded and determined to be due to local conditions. The menu includes:

1. Limiting VOC emissions from the filling of gasoline storage vessels;

2. Limiting VOC emissions from graphic arts for rotogravure and flexographic processes;

3. Limiting VOC emissions for synthetic organic chemical manufacturing industry reactor processes and distillation operations;

4. Limiting VOC emissions from batch processing;

5. Limiting VOC emission from cleanup solvent processing;

6. Limiting VOC emissions from industrial wastewater; and/or,

7. Implementing a 1.1 to 1 offset ratio for permits.

If, within 120 days after the recorded violation, it is determined that the recorded violation is due to local conditions, the Secretary of the LDEQ then has six months to select an appropriate measure, and an additional 20 months for implementation of that contingency measure to be completed. The selected contingency measure, therefore, will be implemented within 30 months of the recorded violation.

IV. What Is the Rulemaking Action?

The EPA has reviewed the SIP submittal for consistency with the Act, applicable EPA regulations and EPA policy. The contingency measures and the schedule for implementation described above satisfy the requirements of section 175A(d) of the Act, and EPA is approving this December 4, 2000, SIP submittal to revise the ozone maintenance plan for Beauregard, St. Mary, Lafayette, and Grant Parishes and the New Orleans CMSA under sections 110(k)(3), 301(a), and part D of the Act.

V. Why Is This a “Final Action?”

We are publishing this rule without prior proposal because we view this as a noncontroversial amendment and anticipate no adverse comment. However, in the “Proposed Rules” section of today's Federal Register publication, we are publishing a separate document that will serve as the proposal to approve the revisions to the contingency plans if adverse comments are received. This rule will be effective on June 20, 2003 without further notice unless we receive adverse comment by May 21, 2003. If EPA receives adverse comment, we will publish a timely withdrawal in the Federal Register informing the public that the rule will not take effect. We will address all public comments in a subsequent final rule based on the proposed rule. We will not institute a second comment period on this action. Any parties interested in commenting must do so at this time.

VI. What Regulatory Assessment Requirements Apply for This Action?

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by June 20, 2003. Filing a petition for reconsideration by the Administrator of this final rule does not affect the finality of this rule for the purposes of judicial review nor does it extend the time within which a petition for judicial review may be filed, and shall not postpone the effectiveness of such rule or action. This action may not be challenged later in proceedings to enforce its requirements (See section 307(b)(2)).

List of Subjects in 40 CFR Part 52

Environmental protection, Air pollution control, Hydrocarbons, Intergovernmental relations, Nitrogen dioxide, Ozone, Reporting and recordkeeping requirements, Volatile organic compounds.

Dated: April 10, 2003.
Richard E. Greene,
Regional Administrator, Region 6.

Part 52, chapter I, title 40 of the Code of Federal Regulations is amended as follows:

PART 52—[AMENDED]

1. The authority citation for part 52 continues to read as follows:

Authority: 42 U.S.C. 7401 et seq.

Subpart T—Louisiana

2. Section 52.975 is amended by adding paragraph (g) to read as follows:

§ 52.975 Redesignations and maintenance plans; ozone.

* * * * *

(g) Approval.—The Louisiana Department of Environmental Quality (LDEQ) submitted to the EPA a request on December 4, 2000, to revise the Louisiana SIP for Beauregard, St. Mary, Lafayette, and Grant Parishes and the New Orleans Consolidated Metropolitan Statistical Area ozone maintenance area. The revision involves changes to the approved contingency plans. The contingency measures and the schedule for implementation satisfy the requirements of section 175A(d) of the Act. The EPA therefore approved this request on June 20, 2003.

[FR Doc. 03-9619 Filed 4-18-03; 8:45 am]

BILLING CODE 6560-50-P